DEPARTMENT OF TRANSPORTATION

Maritime Administration

[USCG-2008-1239]

Texas Offshore Port System Crude Oil Deepwater Port License Application

AGENCY: Maritime Administration, U.S. Department of Transportation.

ACTION: Notice of intent; notice of public meeting; request for comments.

SUMMARY: The Maritime Administration announces that the Coast Guard, in coordination with the Maritime Administration, will prepare an environmental impact statement (EIS) as part of the environmental review of this license application. The application describes a project that would be located approximately 30 statute miles southeast of Freeport, Brazoria County, Texas. Publication of this notice begins a scoping process that will help identify and determine the scope of environmental issues to be addressed in the EIS. This notice requests public participation in the scoping process and provides information on how to participate.

DATES: The public meeting in Freeport, TX will be held on February 18, 2009. The public meeting will be held from 6:30 p.m. to 8 p.m. and will be preceded by an open house from 5 p.m. to 6 p.m. The public meeting may end later than the stated time, depending on the number of persons wishing to speak.

The public meeting in Texas City, TX will be held on February 19, 2009. The public meeting will be held from 6:30 p.m. to 8 p.m. and will be preceded by an open house from 5 p.m. to 6 p.m. The public meeting may end later than the stated time, depending on the number of persons wishing to speak.

Material submitted in response to the request for comments on the license application must reach the Docket Management Facility by February 27, 2009.

ADDRESSES: The open house and public meeting in Freeport will be held at: The Freeport Intermediate School, cafeteria and gymnasium, respectively, 1815 W. 4th Street, Freeport 77541. (979) 730-7240.

The open house and public meeting in Texas City will be held at: The Nessler Center, Surf Room and Captain Room, respectively, 2010 5th Avenue North, Texas City, Texas 77590. (409) 643-5990.

The license application, comments and associated documentation is available for viewing at the Federal Docket Management System (FDMS) Web site: http://www.regulations.gov under docket number USCG-2008-1239.

Docket submissions for USCG-2008-1239 should be addressed to: Department of Transportation, Docket Management Facility, West Building, Ground Floor, Room W12-140, 1200 New Jersey Avenue, SE., Washington, DC 20590-0001

The Docket Management Facility accepts hand-delivered submissions, and makes docket contents available for public inspection and copying at this address between 9 a.m. and 5 p.m., Monday through Friday, except Federal holidays. The Facility telephone number is 202-366-9329, the fax number is 202-493-2251, and the Web site for electronic submissions or for electronic access to docket contents is http://www.regulations.gov.

FOR FURTHER INFORMATION CONTACT: Ray Martin, U.S. Coast Guard, telephone: 202-372-1449, e-mail: raymond.w.martin@uscg.mil, or Linden Houston, Maritime Administration, telephone: 202-366-4839, e-mail: Linden.Houston@dot.gov. If you have questions on viewing the docket, call Renee V. Wright, Program Manager, Docket Operations, telephone 202-493-0402.

SUPPLEMENTARY INFORMATION:

Public Meeting and Open House

We invite you to learn about the proposed deepwater port at an informational open house, and to comment at a public meeting on environmental issues related to the proposed deepwater port. Your comments will help us identify and refine the scope of the environmental issues to be addressed in the EIS.

In order to allow everyone a chance to speak at the public meeting, we may limit speaker time, or extend the meeting hours, or both. You must identify yourself, and any organization you represent, by name. Your remarks will be recorded or transcribed for inclusion in the public docket.

You may submit written material at the public meeting, either in place of or in addition to speaking. Written material must include your name and address, and will be included in the public docket.

Public docket materials will be made available to the public on the Federal Docket Management Facility (see Request for Comments).

Our public meeting location is wheelchair-accessible. If you plan to attend the open house or public meeting, and need special assistance such as sign language interpretation or other reasonable accommodation, please notify the Coast Guard (see FOR FURTHER INFORMATION CONTACT) at least 3 business days in advance. Include your contact information as well as information about your specific needs.

Request for Comments

We request public comments or other relevant information on environmental issues related to the proposed deepwater port. The public meeting is not the only opportunity you have to comment. In addition to or in place of attending a meeting, you can submit comments to the Docket Management Facility during the public comment period (see DATES). We will consider all comments and material received during the comment period.

Submissions should include:

• Docket number USCG-2008-1239.

• Your name and address.

Submit comments or material using only one of the following methods:

• Electronic submission to FDMS, http://www.regulations.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope. Regardless of the method used for submitting comments or material, all submissions will be posted, without change, to the FDMS Web site (http://www.regulations.gov), and will include any personal information you provide. Therefore, submitting this information makes it public. You may wish to read the Privacy and Use Notice that is available on the FDMS Web site, and the Department of Transportation Privacy Act Notice that appeared in the Federal Register on April 11, 2000 (65 FR 19477), see PRIVACY ACT. You may view docket submissions at the Department of Transportation Docket Management Facility or electronically on the FDMS Web site (see ADDRESSES).

Background

Information about deepwater ports, the statutes, and regulations governing their licensing, and the receipt of the current application for the proposed Texas Offshore Port System crude oil deepwater port appears in the Federal Register on January 9, 2009 (74 FR 984). The “Summary of the Application” from that publication is reprinted below for your convenience.

Consideration of a deepwater port license application includes review of the proposed deepwater port's natural and human environmental impacts. The Coast Guard is the lead agency for determining the scope of this review, and in this case the Coast Guard has determined that review must include preparation of an EIS. This notice of intent is required by 40 CFR 1501.7, and briefly describes the proposed action and possible alternatives and our proposed scoping process. You can address any questions about the proposed action, the scoping process, or the EIS to the Coast Guard project manager identified in FOR FURTHER INFORMATION CONTACT.

Proposed Action and Alternatives

The proposed action requiring environmental review is the Federal licensing of the proposed deepwater port described in “Summary of the Application” below. The alternatives to licensing the proposed port are: (1) licensing with conditions (including conditions designed to mitigate environmental impact), and (2) denying the application, which for purposes of environmental review is the “no-action” alternative.

Scoping Process

Public scoping is an early and open process for identifying and determining the scope of issues to be addressed in the EIS. Scoping begins with this notice, continues through the public comment period (see DATES), and ends when the Coast Guard has completed the following actions:

• Invites the participation of Federal, State, and local agencies, any affected Indian tribe, the applicant, and other interested persons;

• Determines the actions, alternatives, and impacts described in 40 CFR 1508.25;

• Identifies and eliminates, from detailed study, those issues that are not significant or that have been covered elsewhere;

• Allocates responsibility for preparing EIS components;

• Indicates any related environmental assessments or environmental impact statements that are not part of the EIS;

• Identifies other relevant environmental review and consultation requirements;

• Indicates the relationship between timing of the environmental review and other aspects of the application process; and

• At its discretion, exercises the options provided in 40 CFR 1501.7(b).

Once the scoping process is complete, the Coast Guard will prepare a draft EIS, and we will publish a Federal Register notice announcing its public availability. (If you want that notice to be sent to you, please contact the Coast Guard project manager identified in FOR FURTHER INFORMATION CONTACT.) You will have an opportunity to review and comment on the draft EIS. The Coast Guard will consider those comments and then prepare the final EIS. As with the draft EIS, we will announce the availability of the final EIS and once again give you an opportunity for review and comment.

Summary of the Application

Texas Offshore Port System, a general partnership consisting of Oiltanking Freeport, L.P., TEPPCO O/S Port System, LLC and Enterprise Offshore Port System, LLC, proposes to own, construct, and operate a deepwater port (DWP), named Texas Offshore Port System (TOPS), in the Federal waters of the Outer Continental Shelf in Minerals Management Service (MMS) lease block Galveston Area A56 (GA 56), approximately 30 statute miles southeast of Freeport, Texas, in a water depth of approximately 120 feet. The proposed DWP will serve as an offshore crude oil receiving terminal and transmission facility. An average of 1,700,000 barrels of oil per day will be offloaded at the terminal and will be delivered via a new pipeline that will terminate at a crude oil storage terminal located in Texas City, Texas. Two Single Point Mooring (SPM) Buoys will be installed to offload crude oil from crude oil tankers. A third SPM may be added in the future. Dual 42-inch outside diameter (OD), 4,000-ft (1,219-m) long offloading pipelines will carry the crude oil to a new Metering and Pumping Platform. At the platform the crude oil will be increased in pressure to 1,950 pounds per square inch gauge discharge pressure to achieve a flow rate of up to 100,000 barrels per hour into the departing Offshore Pipeline. A Quarters and Control Platform will be connected by a bridge to the Metering and Pumping Platform. A new 8 and 5/8-inch OD fuel gas pipeline that will be approximately 36 miles long (58 km) will supply natural gas to the Metering and Pumping Platform. It will originate from an existing platform in MMS lease block Brazos Area BR 538 (BR 538). The new Offshore Pipeline will be a 42-inch OD pipeline and approximately 34.86 miles long. It will transport the crude oil to a new valve station located in Freeport, Texas. From the valve station a new 48-mile, 42-inch OD Onshore Pipeline will transfer the crude oil to a new crude oil storage terminal in Texas City, Texas. A new intermediate Onshore Pump Station will be located along the Onshore Pipeline to boost the pressure of the crude oil. The new crude oil storage terminal, the Texas City Crude Terminal, will consist of seven tanks, six with a storage capacity of 600,000 barrels and one with a storage capacity of 300,000 barrels.

Pipelines and structures such as the moorings may require permits under Section 404 of the Clean Water Act and Section 10 of the Rivers and Harbors Act which are administered by the U.S. Army Corps of Engineers (USACE). TOPS will also require permits from the Environmental Protection Agency (EPA) pursuant to the provisions of the Clean Air Act, as amended, and the Clean Water Act, as amended. The new pipeline will be included in the National Environmental Policy Act (NEPA) review as part of the deepwater port application process. EPA and the USACE, among others, are cooperating agencies and will assist in the NEPA process as described in 40 CFR 1501.6; may participate in scoping meetings; and will incorporate the environmental impact statement (EIS) into their permitting processes. Comments sent to EPA or USACE will also be incorporated into the DOT docket and EIS to ensure consistency with the NEPA process.

Should a license be issued, TOPS anticipates being able to offload and transport crude oil in November 2010. The deepwater port would be designed, constructed and operated in accordance with applicable codes and standards.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or you may visit http://www.regulations.gov.

(Authority 49 CFR 1.66)

Dated: January 16, 2009.
By Order of the Maritime Administrator.
Leonard Sutter,
Secretary, Maritime Administration.

[FR Doc. E9-1514 Filed 1-27-09; 8:45 am]

BILLING CODE 4910-81-P